DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Andrea Gacki, Director, tel.: 202-622-2490; Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Actions

On April 21, 2021, OFAC determined that the property and interests in property subject to U.S. jurisdiction of the following persons are blocked under the relevant sanctions authority listed below.

Individuals

1. HLAING, Ko Ko (a.k.a. HLAING, U Ko Ko), 3, IPRD Wing, East Shwegonedine Road, Bahan, Burma; DOB 24 Oct 1956; POB Myinmu, Burma; nationality Burma; citizen Burma; Gender Male; Passport OM003624 (Burma) issued 06 Sep 2011 expires 05 Sep 2016; National ID No. 8MAKANANG014283 (Burma); Minister for International Cooperation (individual) [BURMA-EO14014].

Designated pursuant to section 1(a)(iii)(b) of Executive Order 14014 of February 10, 2021, “Blocking Property With Respect to the Situation in Burma” (“the Order”) for being a leader or official of the Government of Burma on or after February 2, 2021.

2. HTET, Hein (a.k.a. HTET, Ivan; a.k.a. HTET, U Hein), Burma; DOB 06 Nov 1987; nationality Burma; Gender Male; National ID No. 12DAGANAN029901 (Burma) (individual) [BURMA-EO14014].

Designated pursuant to section 1(a)(v) of the Order for being a spouse or adult child of any person whose property and interests in property are blocked pursuant to this order.

3. HTET, Kaung (a.k.a. HTET, U Kaung), Burma; DOB 03 Aug 1992; nationality Burma; Gender Male; National ID No. 12DAGANAN032517 (Burma) (individual) [BURMA-EO14014].

Designated pursuant to section 1(a)(v) of the Order for being a spouse or adult child of any person whose property and interests in property are blocked pursuant to this order.

4. MAUNG, Mahn Nyein (a.k.a. MAUNG, Padoh Mahn Nyein; a.k.a. MAUNG, Phado Man Nyein), Naypyitaw, Burma; DOB 01 Jan 1947 to 01 Jan 1949; nationality Burma; Gender Male; State Administrative Council Member (individual) [BURMA-EO14014].

Designated pursuant to section 1(a)(iii)(b) of the Order for being a leader or official of the Government of Burma on or after February 2, 2021.

5. MYINT, Tun Aung (a.k.a. MYINT, Htun Aung; a.k.a. MYINT, Saw Htun Aung; a.k.a. MYINT, Saw Tun Aung), Number (632), Gagyi/16, Arzarni Road, Number (4) Lanmason, Quarter (5), Shwepyithar Township, Rangoon, Burma; DOB 16 Feb 1942; alt. DOB 19 Feb 1942; citizen Burma; Gender Male; Union Minister of Ethnic Affairs (individual) [BURMA-EO14014].

Designated pursuant to section 1(a)(iii)(b) of the Order for being a leader or official of the Government of Burma on or after February 2, 2021.

6. NAUNG, Tun Tun (a.k.a. NAING, Tun Tun; a.k.a. NAUNG, Htun Htun), Burma; DOB 30 Apr 1963; nationality Burma; citizen Burma; Gender Male; Union Minister of Border Affairs (individual) [BURMA-EO14014].

Designated pursuant to section 1(a)(iii)(b) of the Order for being a leader or official of the Government of Burma on or after February 2, 2021.

7. NYEIN, Than (a.k.a. NYEIN, U Than), No 67, Yin Mar Myaing St, Su Paung, Thuwunna, Theingangyun Tsp, Rangoon, Burma; DOB 29 Feb 1952; POB Kawkareik, Burma; nationality Burma; citizen Burma; Gender Male; Passport MA370433 (Burma) issued 08 Nov 2013 expires 07 Nov 2018; National ID No. 12YAKANAN007001 (Burma) (individual) [BURMA-EO14014].

Designated pursuant to section 1(a)(iii)(b) of the Order for being a leader or official of the Government of Burma on or after February 2, 2021.

8. NYUNT, Thein (a.k.a. NYUNT, U Thein), Naypyitaw, Burma; DOB 26 Dec 1944; alt. DOB 20 Nov 1944; POB Kawkareik, Burma; nationality Burma; citizen Burma; Gender Male; National ID No. 12THAGAKAN012432 (Burma); State Administrative Council Member (individual) [BURMA-EO14014].

Designated pursuant to section 1(a)(iii)(b) of the Order for being a leader or official of the Government of Burma on or after February 2, 2021.

9. SAING, Sai Lone (a.k.a. HSAI, U Sai Lone; a.k.a. HSAING, U Sai Lone; a.k.a. HSENG, Sai Lone; a.k.a. HSENG, Sai Long; a.k.a. SAING, U Sai Lone), Naypyitaw, Burma; DOB 18 Apr 1947; nationality Burma; Gender Male; State Administrative Council Member (individual) [BURMA-EO14014].

Designated pursuant to section 1(a)(iii)(b) of the Order for being a leader or official of the Government of Burma on or after February 2, 2021.

10. SAN, Pwint (a.k.a. HSAN, Pwint), Zayar Shwe Pyi Road, Naypyitaw, Burma; DOB 13 Jul 1961; POB Rangoon, Burma; nationality Burma; citizen Burma; Gender Male; Passport DM000334 (Burma) issued 30 May 2011 expires 29 May 2021; National ID No. 12MARAKAN007186 (Burma); Union Minister of Commerce (individual) [BURMA-EO14014].

Designated pursuant to section 1(a)(iii)(b) of the Order for being a leader or official of the Government of Burma on or after February 2, 2021.

11. SOE, Thein (a.k.a. SOE, U Thein), Burma; DOB 23 Jan 1952; POB Kani, Burma; nationality Burma; citizen Burma; Gender Male; Union Election Commission Chairman (individual) [BURMA-EO14014].

Designated pursuant to section 1(a)(iii)(b) of the Order for being a leader or official of the Government of Burma on or after February 2, 2021.

12. SHEIN, Win (a.k.a. SHEIN, U Win), Myananyadanar, Naypyitaw, Burma; DOB 31 Jul 1957; POB Mandalay, Burma; nationality Burma; citizen Burma; Gender Male; Passport DM001478 (Burma) issued 10 Sep 2012 expires 09 Sep 2022; National ID No. 12DAGANA011336 (Burma); Minister for Planning, Finance, and Industry (individual) [BURMA-EO14014].

Designated pursuant to section 1(a)(iii)(b) of the Order for being a leader or official of the Government of Burma on or after February 2, 2021.

13. SWE, Khin Maung (a.k.a. SWE, Khin Mg; a.k.a. SWE, U Khin Maung), Naypyitaw, Burma; DOB 20 Jul 1942; nationality Burma; citizen Burma; Gender Male; State Administrative Council Member (individual) [BURMA-EO14014].

Designated pursuant to section 1(a)(iii)(b) of the Order for being a leader or official of the Government of Burma on or after February 2, 2021.

14. THU, Yin Min (a.k.a. THU, Daw Yin Min), Burma; DOB 23 Aug 1989; nationality Burma; Gender Female; National ID No. 12AHLANAN042764 (Burma) (individual) [BURMA-EO14014].

Designated pursuant to section 1(a)(v) of the Order for being a spouse or adult child of any person whose property and interests in property are blocked pursuant to this order.

15. WIN, Thet Khaing (a.k.a. WIN, Thet Kaing), C 541, 1, Yan Myo Thant Zin Street, Zaya Theikdi Quarter, Naypyitaw, Burma; DOB 14 Nov 1961; POB Rangoon, Burma; nationality Burma; Gender Male; Passport DM004668 (Burma) issued 17 Oct 2017 expires 16 Oct 2027; National ID No. 12KAMATAN043299 (Burma); Minister of Health and Sports (individual) [BURMA-EO14014].

Designated pursuant to section 1(a)(iii)(b) of the Order for being a leader or official of the Government of Burma on or after February 2, 2021.

16. YI, Khin Maung (a.k.a. YEE, Khin Maung; a.k.a. YEE, Khin Mg; a.k.a. YEE, U Khin Maung; a.k.a. YI, Khin Mg; a.k.a. YI, U Khin Maung), No. 3132, Khatta (18) Street, Ottayathiri Township, Naypyitaw, Burma; DOB 15 Feb 1965; POB Rangoon, Burma; nationality Burma; citizen Burma; Gender Male; Passport DM000956 (Burma) issued 25 Jan 2012 expires 24 Jan 2022; National ID No. 14HATHATAN059290 (Burma); alt. National ID No. 13MAYATANAING002216; Minister for Natural Resources and Environmental Conservation (individual) [BURMA-EO14014].

Designated pursuant to section 1(a)(iii)(b) of the Order for being a leader or official of the Government of Burma on or after February 2, 2021.

Entity

1. STATE ADMINISTRATIVE COUNCIL (a.k.a. STATE ADMINISTRATION COUNCIL), Naypyitaw, Burma; Target Type Government Entity [BURMA-EO14014].

Designated pursuant to section 1(a)(iv) of the Order for being a political subdivision, agency, or instrumentality of the Government of Burma.

Dated: May 17, 2021.
Bradley T. Smith,
Acting Director, Office of Foreign Assets Control, U.S. Department of the Treasury.

[FR Doc. 2021-10619 Filed 5-19-21; 8:45 am]

BILLING CODE 4810-AL-P